DEPARTMENT OF HEALTH AND HUMAN SERVICES

Administration for Children and Families

Proposed Information Collection Activity; Comment Request

Title: Collection of LIHEAP Recipient Household Data for 2015 RECS LIHEAP Administrative Data Matching.

OMB No.: New Collection.

For Further Information Contact: Lauren Christopher, Director, Division of Energy Assistance, Office of Community Services, 330 C Street SW., 5th Floor, Mail Room 5425 Washington, DC 20201. Telephone (202) 401-4870; email: lauren.christopher@acf.hhs.gov.

Description: The Office of Community Services (OCS) is planning to require the reporting of administrative household data for State LIHEAP grantees' FY 2015 LIHEAP recipients.

The purpose of this request is to provide data that will allow OCS to identify LIHEAP recipients that responded to the 2015 Residential Energy Consumption Survey (RECS). The U.S. Energy Information Administration (EIA) conducts this survey to provide periodic national and regional data on residential energy use in the United States. OCS uses RECS data to furnish Congress and the Administration with important national and regional descriptive data on the energy needs of low-income households.

State LIHEAP grantees have provided household-level recipient data in 2001, 2005, and 2010 for similar efforts to identify LIHEAP recipients that participated in the RECS for those years. Administrative household data already is collected by State grantees and used to complete the annual LIHEAP Household Report (OMB Control No. 0970-0060) and the annual LIHEAP Performance Data Form (OMB Control No. 0970-0449).

The LIHEAP data collected for this effort will be used by OCS to study the impact of LIHEAP on income eligible and recipient households in accordance with section 2610(b)(2) of the LIHEAP statute. The information is being collected for use in development of the Department's annual LIHEAP Report to Congress and the annual LIHEAP Home Energy Notebook.

State LIHEAP grantees will be asked to furnish data for LIHEAP recipient households that reside in areas included in the RECS sample.

The following are the specific data items grantees will report for each household:

• Name

• Address (including ZIP code)

• Household or Client ID

• Telephone Number

• Household Size

• Gross Income

• Heating assistance awarded?

• Amount of heating assistance

• Date of heating assistance

• Cooling assistance awarded?

• Amount of cooling assistance

• Date of cooling assistance

• Crisis Assistance awarded?

• Amount of crisis assistance

• Date of crisis assistance

• Other Assistance awarded?

• Amount of other assistance

• Date of other assistance

• Presence of children 5 or younger

• Presence of adult 60 or older

• Presence of disabled

The following are optional data items that grantees can provide if the data are available in your database:

• Tenancy (i.e., own or rent)

• Type(s) of fuel used

• Heat included in rent

State LIHEAP grantees can provide the data elements in the selected format of their choosing.

The confidentiality of client data will be strictly protected as part of the Project. LIHEAP application client waivers allow grantees to share information with OCS and its contractors.

Respondents: State Governments and the District of Columbia.

Burden Estimates for LIHEAP Recipient Household Administrative Data
Number of respondents | Number of responses per respondent | Average burden hours per response | Total burden hours
49 | 1 | 24 | 1,176

As LIHEAP is a block grant, there is varying capacity to collect and report data among grantees. The estimated burden hours displayed above are for the average LIHEAP grantee. All LIHEAP grantees have existing data systems to collect, maintain, and analyze this data to complete annual reporting requirements.

In compliance with the requirements of Section 506(c)(2)(A) of the Paperwork Reduction Act of 1995, the Administration for Children and Families is soliciting public comment on the specific aspects of the information collection described above. Copies of the proposed collection of information can be obtained and comments may be forwarded by writing to the Administration for Children and Families, Office Planning, Research and Evaluation, 330 C Street SW., Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-32242 Filed 12-22-15; 8:45 am]

BILLING CODE 4184-01-P